DEPARTMENT OF TRANSPORTATION

Federal Motor Carrier Safety Administration

[Docket ID. FMCSA-2008-0266]

Qualification of Drivers; Exemption Applications; Vision

AGENCY: Federal Motor Carrier Safety Administration (FMCSA), DOT.

ACTION: Notice of applications for exemptions; request for comments.

SUMMARY: FMCSA announces receipt of applications from 25 individuals for exemptions from the vision requirement in the Federal Motor Carrier Safety Regulations. If granted, the exemptions would enable these individuals to qualify as drivers of commercial motor vehicles (CMVs) in interstate commerce without meeting the Federal vision standard.

DATES: Comments must be received on or before October 6, 2008.

ADDRESSES: You may submit comments bearing the Federal Docket Management System (FDMS) Docket ID FMCSA-2008-0266 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director,Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 24 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Larry W. Barnes

Mr. Barnes, age 58, has had amblyopia in his left eye since birth. The best corrected visual acuity in his right is eye is 20/20 and in the left, 20/100. Following an examination in 2008 his optometrist noted, “It is my opinion that this life-long amblyopia in Mr. Barnes' left eye in no way affects his ability to drive and operate a commercial vehicle.” Mr. Barnes reported that he has driven straight trucks for 11 years, accumulating 13,200 miles. He holds a Class A Commercial Driver's License (CDL) from Arkansas. His driving record for the last 3 years shows no crashes and no convictions for moving violations in a CMV.

Rick A. Benevides

Mr. Benevides, 57, has had amblyopia in his left eye since childhood. The best corrected visual acuity in his right eye is 20/25 and in the left, 20/100. Following an examination in 2008, his ophthalmologist noted, “Given that Mr. Benevides is so well accustomed to his vision and has had no difficulty with driving, I believe that his visual status is safe for him to operate a commercial vehicle.” Mr. Benevides reported that he has driven straight trucks for 8 years, accumulating 560,000 miles and tractor-trailer combinations for 30 years, accumulating 2.1 million miles. He holds a Class A CDL from Massachusetts. His driving record for the last 3 years shows no crashes and no convictions for moving violations in a CMV.

Jack E. Benjamin

Mr. Benjamin, 55, has had amblyopia in his right eye since birth. The visual acuity in his right eye is 20/100 and in the left, 20/20. Following an examination in 2008, his optometrist noted, “It is my medical opinion that Jack has sufficient vision to perform the driving tasks required to operate a commercial vehicle.” Mr. Benjamin reported that he has driven straight trucks for 35 years, accumulating 560,000 miles, tractor-trailer combinations for 35 years, accumulating 997,500 miles, and buses for 35 years, accumulating 327,985 miles. He holds a Class A CDL from New York. His driving record for the last 3 years shows one crash in which he was cited for driving too fast for road conditions, and no convictions for moving violations in a CMV.

Allen S. Bush

Mr. Bush, 50, has had amblyopia in his left eye since childhood. The best corrected visual acuity in his right eye is 20/20 and in the left, 20/70. Following an examination in 2008 his ophthalmologist noted, “I do feel that his vision is sufficient to perform the driving task to operate a commercial vehicle.” Mr. Bush reported that he has driven straight trucks for 30 years, accumulating 180,000 miles. He holds a Class A CDL from New York. His driving record for the last 3 years shows no crashes and no convictions for moving violations in a CMV.

Todd A. Chapman

Mr. Chapman, 38, has had nystagmus and amblyopia in his left eye since childhood. The best corrected visual acuity in his right eye is 20/20 and in the left, count-finger vision. Following an examination in 2008, his optometrist noted, “It is my medical opinion that Mr. Chapman has sufficient vision to perform the driving task required to operate a commercial vehicle.” Mr. Chapman reported that he has driven straight trucks for 5 years, accumulating 175,000 miles and tractor-trailer combinations for 19 years, accumulating 475,000 miles. He holds a Class A CDL from North Carolina. His driving record for the last 3 years shows no crashes and no convictions for moving violations in a CMV.

Delone W. Dudley

Mr. Dudley, 49, has had amblyopia in his right eye since childhood. The best corrected visual acuity in his right eye is 20/60 and in the left, 20/20. Following an examination in 2008, his ophthalmologist noted, “I believe that Mr. Dudley has sufficient vision to operate a commercial vehicle.” Mr. Dudley reported that he has driven straight trucks for 20 years, accumulating 170,000 miles and tractor-trailer combinations for 3½ years, accumulating 29,750 miles. He holds a Class A CDL from Maryland. His driving record for the last 3 years shows no crashes and no convictions for moving violations in a CMV.

Irvin L. Eaddy

Mr. Eaddy, 59, has had open angle glaucoma since 1996. The best corrected visual acuity in his right eye is 20/20 and in the left, light perception. Following an examination in 2008, his optometrist noted, “In my medical opinion, he has sufficient vision to perform the driving tasks required to operate a commercial vehicle.” Mr. Eaddy reported that he has driven tractor-trailer combinations for 23 years, accumulating 2.8 million miles. He holds a Class A CDL from South Carolina. His driving record for the last 3 years shows no crashes and one conviction for a moving violation, speeding in a CMV. He exceeded the speed limit by 9 mph.

Herman Hicks

Mr. Hicks, 50, has reduced peripheral vision in his left eye due to a traumatic injury sustained as a child. The best corrected visual acuity in his right eye is 20/20 and in the left, 20/30. The horizontal field of vision in his right eye is 120 degrees and in the left, 68 degrees. Following an examination in 2008, his ophthalmologist noted, “I feel in my medical opinion that Mr. Herman Hicks has sufficient vision to properly operate a commercial vehicle and should be granted an exception for his left eye defect.” Mr. Hicks reported that he has driven straight trucks for 24 years, accumulating 264,000 miles. He holds a Class C operator's license from Georgia. His driving record for the last 3 years shows no crashes and no convictions for moving violations in a CMV.

Ralph Landers

Mr. Landers, 40, has had optic nerve defect in his right eye since birth. The best corrected visual acuity in his right eye is 20/80 and in the left, 20/25. Following an examination in 2008, his optometrist noted, “Mr. Lander's vision is sufficient to drive a commercial vehicle and his vision should be assessed yearly to insure he can maintain present vision for driving.” Mr. Landers reported that he has driven straight trucks for 12 years, accumulating 720,000 miles, and buses for 2 years, accumulating 1,800 miles. He holds a Class C operator's license from Georgia. His driving record for the last 3 years shows no crashes and no convictions for moving violations in a CMV.

Jeromy W. Leatherman

Mr. Leatherman, 29, has had amblyopia in his left eye since birth. The visual acuity in his right eye is 20/20 and in the left, 20/200. Following an examination in 2008, his optometrist noted, “In my opinion, Jeromy has sufficient vision to perform the driving tasks required to operate a commercial vehicle.” Mr. Leatherman reported that he has driven straight trucks for 11 years, accumulating 660,000 miles. He holds a Class B CDL from Pennsylvania. His driving record for the last 3 years shows no crashes and no convictions for moving violations in a CMV.

Ernest B. Martin

Mr. Martin, 52, has had amblyopia in his right eye since childhood. The visual acuity in his right eye is 20/200 and in the left, 20/20. Following an examination in 2008, his optometrist noted, “Mr. Martin has a satisfactory level of vision to perform the driving tasks required to operate a commercial vehicle.” Mr. Martin reported that he has driven straight trucks for 1 year, accumulating 3,200 miles, tractor-trailer combinations for 3½ years, accumulating 252,000 miles. He holds a Class A CDL from Kentucky. His driving record for the last 3 years shows one crash, for which he was cited, and one conviction for a moving violation, speeding in a CMV. He exceeded the speed limit by 10 mph.

Mark L. McWhorter

Mr. McWhorter, 46, has complete loss of vision in his left eye due to a traumatic injury sustained as a child. The best corrected visual acuity in his right eye is 20/20. Following an examination in 2008, his optometrist noted, “Mr. McWhorter's vision is stable and it is my professional opinion that he has sufficient vision to perform the driving tasks required to operate a commercial vehicle, so long as he has side mirrors or both sides of the vehicle.” Mr. McWhorter reported that he has driven tractor-trailer combinations for 6½ years, accumulating 585,000 miles. He holds a Class A CDL from Florida. His driving record for the last 3 years shows no crashes and no convictions for moving violations in a CMV.

Charles D. Messier

Mr. Messier, 45, has loss of vision in his right eye due to lymphoma that occurred in 2005. The visual acuity in his right eye is count-finger-vision and in the left, 20/30. Following an examination in 2008, his ophthalmologist noted, “Patient has sufficient vision to operate a commercial vehicle.” Mr. Messier reported that he has driven straight trucks for 22 years, accumulating 1.7 million miles, tractor-trailer combinations for 12 years, accumulating 1.2 million miles. He holds a Class A CDL from New Hampshire. His driving record for the last 3 years shows no crashes and no convictions for moving violations in a CMV.

Raymond C. Miller

Mr. Miller, 42, has had amblyopia in his right eye since birth. The visual acuity in his right eye is 20/80 and in the left, 20/20. Following an examination in 2008, his ophthalmologist noted, “It is my medical decision that Raymond Miller does have sufficient vision to drive a commercial vehicle.” Mr. Miller reported that he has driven straight trucks for 24 years, accumulating 66,000 miles, tractor-trailer combinations for 3 years, accumulating 750 miles, and buses for 18 years, accumulating 21,600 miles. He holds a Class D operator's license from Alabama. His driving record for the last 3 years shows no crashes and no convictions for moving violations in a CMV.

Dennis E. Palmer, Jr.

Mr. Palmer, 27, has loss of vision in his left eye due to an optic nerve injury that occurred in 1998. The visual acuity in his right is eye is 20/20 and in the left, light perception. Following an examination in 2008 his ophthalmologist noted, “It is my medical opinion that Mr. Palmer has sufficient vision to drive a commercial vehicle.” Mr. Palmer reported that he has driven straight trucks for 6 years, accumulating 96,000 miles. He holds a Class 2 CDL from Connecticut. This allows him to drive non-commercial vehicles with a gross weight of 10,000 pounds or less. His driving record for the last 3 years shows no crashes and no convictions for moving violations in a CMV.

Gary W. Phelps

Mr. Phelps, 49, has had a prosthetic left eye since childhood due to a traumatic injury. The best corrected visual acuity in his right eye is 20/25. Following an examination in 2008, his ophthalmologist noted, “I feel that Mr. Gary Phelps has sufficient vision to perform the driving tasks required to operate a commercial vehicle.” Mr. Phelps reported that he has driven straight trucks for 27 years, accumulating 1.1 million miles and tractor-trailer combinations for 10 years, accumulating 100,000 miles. He holds a Class A CDL from Pennsylvania. His driving record for the last 3 years shows no crashes and no convictions for moving violations in a CMV.

Kevin L. Quastad

Mr. Quastad, 44, has loss of vision in his right eye due to a traumatic injury sustained in 1984. The visual acuity in his right eye is light perception and in the left, 20/20. Following an examination in 2008, his optometrist noted, “In my opinion, Kevin meets the vision standard to perform the driving tasks required to operate a commercial vehicle.” Mr. Quastad reported that he has driven straight trucks for 28 years, accumulating 560,000 miles and tractor-trailer combinations for 24 years, accumulating 600,000 miles. He holds a Class A CDL from Iowa. His driving record for the last 3 years shows no crashes and no convictions for moving violations in a CMV.

John E. Rains

Mr. Rains, 41, has had amblyopia in his left eye since childhood. The best corrected visual acuity in his right is eye is 20/15 and in the left, 20/80. Following an examination in 2008 his ophthalmologist noted, “In my opinion, Mr. Rains has sufficient vision to perform driving tasks required to operate a commercial vehicle.” Mr. Rains reported that he has driven straight trucks for 19 years, accumulating 380,000 miles. He holds an operator's license from Washington. His driving record for the last 3 years shows no crashes and no convictions for moving violations in a CMV.

James D. St. Peter

Mr. St. Peter, 43, has had optic nerve atrophy in his right eye since birth. The best corrected visual acuity in his right eye is 20/100 and in the left, 20/20. Following an examination in 2008, his optometrist noted, “Yes, I certify that James St. Peter has sufficient vision to operate and do tasks of driving a commercial vehicle on the highway.” Mr. St. Peter reported that he has driven straight trucks for 10 years, accumulating 300,000 miles and tractor-trailer combinations for 8 years, accumulating 307,200 miles. He holds a Class A CDL from North Carolina. His driving record for the last 3 years shows no crashes and no convictions for moving violations in a CMV.

Michael Sutton

Mr. Sutton, 50, has loss of vision in his right eye due to a traumatic injury sustained in 1981. The visual acuity in his right is eye is 20/400 and in the left, 20/25. Following an examination in 2008 his optometrist noted, “In my medical opinion, you do have sufficient vision to perform the driving tasks required to operate a commercial vehicle.” Mr. Sutton reported that he has driven straight trucks for 18 years, accumulating 225,000 miles. He holds a Class D operator's license from Alabama. His driving record for the last 3 years shows one crash, for which he was not cited, and no convictions for moving violations in a CMV.

Sylvester Silver

Mr. Silver, 53, has a prosthetic left eye due to a traumatic injury sustained as a child. The visual acuity in his right eye is 20/20. Following an examination in 2008, his optometrist noted, “Mr. Silver's current ocular health and visual fields is excellent. His present visual status is sufficient to perform the driving tasks required to operate a commercial vehicle.” Mr. Silver reported that he has driven buses for 18 years, accumulating 1.2 million miles. He holds a Class B CDL from Virginia. His driving record for the last 3 years shows no crashes and no convictions for moving violations in a CMV.

Wade D. Taylor

Mr. Taylor, 46, has a prosthetic left eye. The best corrected visual acuity in his right eye is 20/20. Following an examination in 2008, his optometrist noted, “At this time, I have educated Mr. Taylor of the findings of today's exam and have found that his vision is sufficient to perform the driving tasks required to operate a commercial vehicle.” Mr. Taylor reported that he has driven straight trucks for 3 years, accumulating 84,000 miles. He holds a Class E operator's license from Missouri. His driving record for the last 3 years shows no crashes and no convictions for moving violations in a CMV.

William R. Thomas

Mr. Thomas, 57, has loss of vision in his left eye due to a traumatic injury sustained as a child. The best corrected visual acuity in his right eye is 20/20 and in the left, 20/400. Following an examination in 2008, his ophthalmologist noted, “Therefore, in my medical opinion since this patient has been driving for so long and has had this degree of vision at a stable fashion since he has been a child I do feel that he does apparently have sufficient vision to perform driving tasks required to operate a commercial vehicle.” Mr. Thomas reported that he has driven straight trucks for 26 years, accumulating 1 million miles. He holds a Class A CDL from Mississippi. His driving record for the last 3 years shows no crashes and no convictions for moving violations in a CMV.

Terrence L. Trautman

Mr. Trautman, 58, has had amblyopia in his right eye since childhood. The visual acuity in his right eye is 20/400 and in the left, 20/20. Following an examination in 2008, his optometrist noted, “I certify that he has sufficient vision to perform driving tasks required to operate a commercial vehicle.” Mr. Trautman reported that he has driven straight trucks for 35 years, accumulating 350,000 miles. He holds a Class A CDL from Washington. His driving record for the last 3 years shows no crashes and no convictions for moving violations in a CMV.

David Vallier

Mr. Vallier, 46, has had alternating exotropia in his eyes since birth. The best corrected visual acuity in his right eye is 20/20 and in the left, 20/20. Following an examination in 2008, his optometrist noted, “Has sufficient vision to operate a commercial vehicle.” Mr. Vallier reported that he has driven straight trucks for 20 years, accumulating 3.1 million miles and tractor-trailer combinations for 15 years, accumulating 1.5 million miles. He holds a Class A CDL from Louisiana. His driving record for the last 3 years shows no crashes and no convictions for moving violations in a CMV.

Request for Comments

In accordance with 49 U.S.C. 31136(e) and 31315, FMCSA requests public comment from all interested persons on the exemption petitions described in this notice. The Agency will consider all comments received before the close of business October 6, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: August 27, 2008.
Larry W. Minor,
Associate Administrator for Policy and Program Development.

[FR Doc. E8-20510 Filed 9-3-08; 8:45 am]

BILLING CODE 4910-EX-P